DEPARTMENT OF TRANSPORTATION

Office of the Secretary; Aviation Proceedings, Agreements Filed During the Week Ending February 15, 2002

The following Agreements were filed with the Department of Transportation under the provisions of 49 U.S.C. Sections 412 and 414. Answers may be filed within 21 days after the filing of the application.

Docket Number: OST-2002-11550.

Date Filed: February 12, 2002.

Parties: Members of the International Air Transport Association.

Subject: PTC12 NMS-ME 0159 dated 15 February 2002; Mail Vote 201—TC12 Mid Atlantic-Middle East; Special Passenger Amending Resoluton; Intended effective date: 15 March 2002.

Docket Number: OST-2002-11581.

Date Filed: February 12, 2002.

Parties: Members of the International Air Transport Association.

Subject: CBPP/9/Meet/004/2001 dated 21 January 2002; Book of Finally Adopted Recommended Practices r1-r2; Minutes—CBPP/09/Meet/003/01; dated 13 September 2001; R1-1600g R2-1600r; Intended effective date: 1 April 2002.

Date Filed: February 12, 2002.

Parties: Members of the International Air Transport Association.

Subject: MV/PSC/111 dated 28 November 2001; Mail Vote S076 r1-RP 1720a; Intended effective date: 1 February 2002.

Docket Number: OST-2002-11607.

Date Filed: February 15, 2002.

Parties: Members of the International Air Transport Association.

Subject: PTC12 NMS-ME 0163 dated 19 February 2002; Mail Vote 202—TC12 South Atlantic-Middle East; Special Passenger Amending Resolution 010e; Intended effective date: 15 March 2002.

Cynthia L. Hatten,
Federal Register Liaison.

[FR Doc. 02-5408 Filed 3-6-02; 8:45 am]

BILLING CODE 4910-62-P